DEPARTMENT OF HEALTH AND HUMAN SERVICES

Centers for Disease Control and Prevention

Advisory Committee to the Director (ACD), Centers for Disease Control and Prevention—Health Disparities Subcommittee (HDS)

In accordance with section 10(a)(2) of the Federal Advisory Committee Act (Pub. L. 92-463), the Centers for Disease Control and Prevention (CDC) announces the following meeting of the aforementioned subcommittee:

Time and Date: 10:00 a.m.-6:00 p.m. EDT, April 16, 2015.

Place: CDC, Building 19, Rooms256/257, 1600 Clifton Road, NE., Atlanta, Georgia 30333.

Status: Open to the public, limited only by the space available. The meeting room accommodates approximately 50 people. The public is welcome to participate during the public comment period, which is tentatively scheduled from 5:30 to 5:45 p.m. This meeting is also available by teleconference, please dial (866) 763-0273 and enter code 6158968.

Purpose: The Subcommittee will provide advice to the CDC Director through the ACD on strategic and other health disparities and health equity issues and provide guidance on opportunities for CDC.

Matters To Be Discussed: The Health Disparities Subcommittee members will discuss health equity in injury prevention, progress toward the ACD, CDC-approved Health Disparities Subcommittee recommendations, and updates on selected priorities of the Health Disparities Subcommittee.

The agenda is subject to change as priorities dictate.

Web links:

Windows Media: http://wm.onlinevideoservice.com/CDC1.

Flash: http://www.onlinevideoservice.com/clients/CDC/?mount=CDC3.

If you are unable to connect using the link, copy and paste the link into your web browser.

Number for Technical Support: 404-639-3737.

Contact Person For More Information: Leandris Liburd, Ph.D., M.P.H., M.A., Designated Federal Officer, Health Disparities Subcommittee, Advisory Committee to the Director, CDC, 1600 Clifton Road NE., M/S K-77, Atlanta, Georgia 30333, Telephone 770-488-8343, Email: LEL1@cdc.gov.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention (CDC).

[FR Doc. 2015-06645 Filed 3-23-15; 8:45 am]

BILLING CODE 4163-18-P